EQUAL EMPLOYMENT OPPORTUNITY COMMISSION

Commission Meeting—Sunshine Act Notice

TIME AND DATE: Thursday, January 22, 2026, 10:00 a.m. Eastern Time.

PLACE: The meeting will be held at the Jacqueline A. Berrien Training Center, 131 M Street NE, Washington, DC 20507. The meeting will also be held as a listen-only audio dial-in by telephone. The public may attend in person or connect to the audio-only dial-in by following the instructions that will be posted on www.eeoc.gov at least 24 hours before the meeting. ASL services will be available for those attending the meeting in person and a closed captioning link will be posted on our website prior to the meeting.

If you wish to attend the meeting in person, you must email commissionmeetingcomments@eeoc.gov to register by providing your name as it appears on your driver's license or other government-issued identification at least 24 hours prior to the meeting. You will be asked to show your ID upon arrival.

STATUS: The meeting will be open to the public.

MATTERS TO BE CONSIDERED: The following item will be considered at the meeting:

• Rescission of Enforcement Guidance on Harassment in the Workplace

• Resolution Concerning the Commission's Authority to Commence or Intervene in Litigation

• Obligation of Funds Requiring Commission Approval

Note: In accordance with the Sunshine Act, the public will be able to observe the Commission's deliberations and voting. (In addition to publishing notices on Commission meetings in the Federal Register, the Commission also provides information about Commission meetings on its website, www.eeoc.gov and provides a recorded announcement one week in advance of future Commission meetings.) Public observation does not include participation. Observers seeking to take still photographs, video, or audio recordings of the meeting must seek permission by contacting the Executive Secretariat at commissionmeetingcomments@eeoc.gov at least 24 hours before the meeting to discuss the manner of recording and ensure it does not interfere with the meeting.

Please telephone (202) 921-2705, or email commissionmeetingcomments@eeoc.gov at any time for information on this meeting.

CONTACT PERSON FOR MORE INFORMATION: Raymond Windmiller, Executive Officer, (202) 921-2705.

Date: January 14, 2026.
Raymond D. Windmiller,
Executive Officer, Executive Secretariat.

[FR Doc. 2026-00900 Filed 1-14-26; 4:15 pm]

BILLING CODE 6570-01-P